DEPARTMENT OF LABOR

Employment and Training Administration

[TA-W-62,952]

NewPage Corporation, Niagara Mill, Niagara, WI; Notice of Termination of Investigation

Pursuant to Section 221 of the Trade Act of 1974, as amended, an investigation was initiated on March 5, 2008 in response to a petition filed by a company official on behalf of workers at NewPage Corporation, Niagara Mill, Niagara, Wisconsin. The workers at the subject facility produce coated mechanical printing paper.

The petitioner has requested that the petition be withdrawn. Consequently, the investigation has been terminated.

Signed in Washington, DC, this 4th day of April 2008.
Richard Church
Certifying Officer, Division of Trade Adjustment Assistance.

[FR Doc. E8-7745 Filed 4-10-08; 8:45 am]

BILLING CODE 4510-FN-P